DEPARTMENT OF HOMELAND SECURITY

[Docket Number—DHS-2021-0050]

Agency Information Collection Activities: Family Reunification Task Force Travel Questionnaire and website Application

AGENCY: Department of Homeland Security (DHS).

ACTION: 60-Day notice and request for comments; Family Reunification Task Force Travel Questionnaire and website application, extension without change.

SUMMARY: The Department of Homeland Security, will submit the following Information Collection Request (ICR) to the Office of Management and Budget (OMB) for review and clearance in accordance with the Paperwork Reduction Act of 1995.

DATES: Comments are encouraged and will be accepted until March 21, 2022. This process is conducted in accordance with 5 CFR 1320.1.

ADDRESSES: You may submit comments, identified by docket number Docket # DHS-2021-0050, at:

○ Federal eRulemaking Portal: http://www.regulations.gov. Please follow the instructions for submitting comments.

Instructions: All submissions received must include the agency name and docket number Docket # DHS-2021-0050. All comments received will be posted without change to http://www.regulations.gov, including any personal information provided.

Docket: For access to the docket to read background documents or comments received, go to http://ww.regulations.gov.

SUPPLEMENTARY INFORMATION: On February 2, 2021, President Biden signed Executive Order 14011 (E.O. 14011), Establishment of Interagency Task Force on the Reunification of Families, in response to the prior Administration decision to intentionally separate children from their parents and legal guardians (families), including through the use of the Zero-Tolerance Policy. E.O. 14011 directs the Interagency Task Force on the Reunification of Families (Task Force) to identify children who were separated and facilitate and enable the reunification of the families. Additionally, E.O. 14011 directs the Task Force to provide recommendations on providing additional services and support for the reunified families, including behavioral health services with a focus on trauma-informed care. The Secretary of Homeland Security is the chair of the Task Force and is joined by the Department of State, Department of Health and Human Services, and the Department of Justice.

To carry out the Task Force's mission to reunify families, DHS is extending the current information data collection. The purpose is to achieve efficiencies to process these individuals for a successful family reunification. To streamline the initial contact, assistance, and reunification travel coordination process, the Task Force has created a website application (Register | together.gov and Regístrese | together.gov (juntos.gov)) to create initial contact and a travel form to collect details and information the Task Force needs to make travel arrangements for the beneficiary and other traveling family members.

The information to be collected on the website application would include:

• A-Number

• Name of Separated Parent

• Contact Information of the Separated Parent (phone, email)

• Country of Birth

• Country of Citizenship

• Current Country Location

• Separated Parent Relationship to Child

• Separated Parent's Preferred Language

• Separated Child's A#

• Separated Child Name

• Separated Child's Date of Birth

• Separated Child's Country of Birth

• Separated Child's Country of Citizenship

• Whether Separated Parent is in contact with Child

• Whether Separated Parent has knowledge of Child's current location

• Name of Attorney, Advocate or Preparer

• Attorney, Advocate, or Preparer Contact Information

The information to be collected for travel would include: Name, Date of Birth, Gender, A#, Passport Number and Expiration, Phone Number, Email address, Language(s) spoken, Representative/Attorney name and contact information, Date of Embassy Appointment to obtain boarding foil, Identification of Special Assistance Requests, Departure Airport, Final Airport, Traveling requested time frame, Names of others in the traveling party. The data will be stored by the international organization coordinating travel for the families.

This information collection does not have an impact on small businesses or other small entities.

If this information is not collected, the Task Force will not be able to accomplish its mission to reunite families swiftly.

The assurance of confidentiality provided to the respondents for this information collection is based on the Privacy Impact Assessment DHS/ALL/PIA-091. The Systems of Records Notices that will be included in this ICR include DHS/USCIS/ICE/CBP-001 Alien File, Index, and National File Tracking System of Records, September 18, 2017, 82 FR 43556 DHS/USCIS-007 Benefits Information System, October 10, 2019, 84 FR 54622.

This information collection was constructed in compliance with regulations and authorities under the purview of the DHS Privacy Office, DHS OCIO, DHS Records Management, and OMB regulations regarding data collection, use, sharing, storage, information security, and retrieval of information.

There are no changes to the information being collected and there is no change to the estimated burden associated with this collection.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: Family Reunification Task Force Travel Questionnaire and website Application.

OMB Number: 1601-0031.

Frequency: Annually.

Affected Public: Members of the Public.

Number of Respondents: 3,000.

Estimated Time per Respondent: 20 minutes.

Total Burden Hours: 1,000.

Robert Dorr,
Executive Director, Business Management Directorate.

[FR Doc. 2022-00990 Filed 1-19-22; 8:45 am]

BILLING CODE 9112-FL-P